DEPARTMENT OF TRANSPORTATION

Federal Aviation Administration

Notice of Availability of the Final Environmental Assessment (EA) and Finding of No Significant Impact/Record of Decision (FONSI/ROD) for the 2020 Improvement Project for Minneapolis/St. Paul International Airport (MSP), Minneapolis, MN

AGENCY: Federal Aviation Administration (FAA), DOT.

ACTION: Notice.

SUMMARY: The FAA is issuing this notice to advise the public that the FAA has prepared and approved (March 6, 2013) a FONSI/ROD based on the Final EA for the MSP 2020 Improvement Project. The Final EA was prepared in accordance with the National Environmental Policy Act (NEPA) of 1969, as amended, FAA Orders 1050.1E, “Environmental Impacts: Policies and Procedures” and 5050.4B, “NEPA Implementing Instructions for Airport Actions”.

DATES: This notice is effective March 21, 2013.

FOR FURTHER INFORMATION CONTACT: Ms. Kandice Krull, Environmental Protection Specialist, FAA Minneapolis Airports District Office (ADO), 6020 28th Avenue South, Suite 102, Minneapolis, Minnesota, 55450. Telephone number is (612) 253-4639. Copies of the FONSI/ROD and/or Final EA are available upon written request by contacting Ms. Kandice Krull through the contact information above.

SUPPLEMENTARY INFORMATION: The Final EA evaluated the MSP 2020 Improvement Project. The purpose of the project is to accommodate the expected demand such that the level of service is acceptable throughout MSP's facilities (terminal and landside facilities such as gates, security checkpoints, parking lots, roadways, etc.) under both existing and 2020 conditions and regional roadways under 2030 conditions.

The FAA and the Metropolitan Airport Commission (MAC) jointly prepared the Final EA, pursuant to the requirements of the NEPA and the Minnesota Environmental Policy Act, respectively. A joint Federal-State EA was prepared.

Chapter 3 of the Final EA identified and evaluated all reasonable alternatives. Numerous alternatives were considered but eventually discarded for not meeting the purpose and need. Three alternatives (No Action, Alternative 1—Airlines Remain, and Alternative 2—Airlines Relocation) were examined in detail. After careful analysis and consultation with various resource agencies, the MAC selected Alternative 2 as the preferred alternative. Alternative 2 satisfies the purpose and need while minimizing impacts.

Alternative 2 includes improvements to Terminal 1—Lindbergh; Terminal 2—Humphrey; Glumack Drive; 34th Avenue South and I-494 interchange; East 72nd Street and 34th Avenue South intersection; 34th Avenue South, East 70th Street; Post Road; the Post Road and Trunk Highway 5 interchange; and I-494.

Based on the analysis in the Final EA, the FAA has determined that Alternative 2 will not result in significant impacts to resources identified in accordance with FAA Orders 1050.1E and 5054.4B. Therefore, an environmental impact statement will not be prepared.

Issued in Minneapolis, Minnesota on March 6, 2013.
Jesse Carriger,
Acting Manager, Minneapolis Airports District Office, FAA, Great Lakes Region.

[FR Doc. 2013-06533 Filed 3-20-13; 8:45 am]

BILLING CODE 4910-13-P